DEPARTMENT OF ENERGY

Federal Energy Regulatory Commission

Combined Notice of Filings #1

Take notice that the Commission received the following electric corporate filings:

Docket Numbers: EC15-99-000.

Applicants: Spring Canyon Energy II LLC, Spring Canyon Energy III LLC, Spring Canyon Interconnection LLC, NRG Yield Operating LLC.

Description: Joint Application for Authorization Under Section 203 of the Federal Power Act and Request for Waivers and Expedited Action of Spring Canyon Energy II LLC, et. al.

Filed Date: 3/18/15.

Accession Number: 20150318-5188.

Comments Due: 5 p.m. ET 4/8/15.

Take notice that the Commission received the following electric rate filings:

Docket Numbers: ER10-2124-010; ER15-103-002; ER14-2821-005; ER14-2820-005; ER14-2799-003; ER14-2798-003; ER14-25-007; ER14-2187-005; ER12-645-011; ER12-164-009; ER12-161-010; ER11-4046-010; ER11-4044-011; ER11-3872-012; ER11-2127-006; ER10-2764-010; ER10-2141-011; ER10-2140-011; ER10-2139-011; ER10-2138-011; ER10-2137-011; ER10-2136-008; ER10-2135-008; ER10-2134-008; ER10-2133-011; ER10-2132-010; ER10-2131-011; ER10-2130-010; ER10-2129-008; ER10-2128-010; ER10-2125-011.

Applicants: Spring Canyon Energy LLC, Judith Gap Energy LLC, Invenergy TN LLC, Wolverine Creek Energy LLC, Grays Harbor Energy LLC, Forward Energy LLC, Grand Ridge Energy LLC, Willow Creek Energy LLC, Sheldon Energy LLC, Hardee Power Partners Limited, Spindle Hill Energy LLC, Invenergy Cannon Falls LLC, Beech Ridge Energy LLC, Grand Ridge Energy II LLC, Grand Ridge Energy III LLC, Grand Ridge Energy IV LLC, Grand Ridge Energy V LLC, Vantage Wind Energy LLC, Stony Creek Energy LLC, Gratiot County Wind LLC, Gratiot County Wind II LLC, Bishop Hill Energy LLC, Bishop Hill Energy III LLC, California Ridge Wind Energy LLC, Prairie Breeze Wind Energy LLC, Grand Ridge Energy Storage LLC, Beech Ridge Energy II LLC, Beech Ridge Energy Storage LLC, Spring Canyon Energy II LLC, Spring Canyon Energy III LLC, Invenergy Nelson LLC.

Description: Notification of Change in Facts of Spring Canyon Energy LLC, et. al..

Filed Date: 3/19/15.

Accession Number: 20150319-5156.

Comments Due: 5 p.m. ET 4/9/15.

Docket Numbers: ER11-2059-006.

Applicants: Midcontinent Independent System Operator, Inc.

Description: Compliance filing per 35: 2015-03-19 LTTR effects to TO withdrawals Compliance Filing to be effective 1/19/2011.

Filed Date: 3/19/15.

Accession Number: 20150319-5044.

Comments Due: 5 p.m. ET 4/9/15.

Docket Numbers: ER12-1308-004.

Applicants: Palouse Wind, LLC.

Description: Supplement to January 28, 2015 Notice of Non-Material Change in Status of Palouse Wind, LLC.

Filed Date: 3/18/15.

Accession Number: 20150318-5183.

Comments Due: 5 p.m. ET 4/8/15.

Docket Numbers: ER14-2820-004; ER14-2821-004.

Applicants: Spring Canyon Energy II LLC, Spring Canyon Energy III LLC.

Description: Notification of Change in Facts of Spring Canyon Energy II LLC, et. al.

Filed Date: 3/18/15.

Accession Number: 20150318-5195.

Comments Due: 5 p.m. ET 4/8/15.

Docket Numbers: ER15-212-001.

Applicants: Southwest Power Pool, Inc.

Description: eTariff filing per 35.19a(b): 2900R1 Kansas Municipal Energy Authority Refund Report to be effective N/A.

Filed Date: 3/19/15.

Accession Number: 20150319-5084.

Comments Due: 5 p.m. ET 4/9/15.

Docket Numbers: ER15-232-001.

Applicants: Southwest Power Pool, Inc.

Description: eTariff filing per 35.19a(b): 2415R3 Kansas Municipal Energy Authority Refund Report to be effective N/A.

Filed Date: 3/19/15.

Accession Number: 20150319-5073.

Comments Due: 5 p.m. ET 4/9/15.

Docket Numbers: ER15-473-000.

Applicants: Southwest Power Pool, Inc.

Description: eTariff filing per 35.19a(b): 1886R3 Westar Energy, Inc. Refund Report to be effective N/A.

Filed Date: 3/19/15.

Accession Number: 20150319-5091.

Comments Due: 5 p.m. ET 4/9/15.

Docket Numbers: ER15-884-001.

Applicants: Midcontinent Independent System Operator, Inc., ITC Midwest LLC.

Description: Tariff Amendment per 35.17(b): 2015-03-19_SA 2728 Amendment MidAmerican-ITCM FSA (H021) to be effective 1/31/2015.

Filed Date: 3/19/15.

Accession Number: 20150319-5045.

Comments Due: 5 p.m. ET 4/9/15.

Docket Numbers: ER15-939-002.

Applicants: Western Massachusetts Electric Company.

Description: Tariff Amendment per 35.17(b): Amendment 2 SUPPLEMENT—HG&E Asset Demarcation Agreement to be effective 1/5/2015.

Filed Date: 3/18/15.

Accession Number: 20150318-5162.

Comments Due: 5 p.m. ET 4/8/15.

Docket Numbers: ER15-957-000.

Applicants: AltaGas Ripon Energy Inc.

Description: Supplement to February 2, 2015 AltaGas Ripon Energy Inc. tariff filing.

Filed Date: 3/18/15.

Accession Number: 20150318-5201.

Comments Due: 5 p.m. ET 4/1/15.

Docket Numbers: ER15-1336-000.

Applicants: Alabama Power Company.

Description: § 205(d) rate filing per 35.13(a)(2)(iii): Terrell County Solar LGIA Filing to be effective 3/5/2015.

Filed Date: 3/18/15.

Accession Number: 20150318-5161.

Comments Due: 5 p.m. ET 4/8/15.

Docket Numbers: ER15-1337-000.

Applicants: PJM Interconnection, L.L.C.

Description: § 205(d) rate filing per 35.13(a)(2)(iii): Service Agreement No. 4099; Queue X1-087 (WMPA) to be effective 2/19/2015.

Filed Date: 3/18/15.

Accession Number: 20150318-5172.

Comments Due: 5 p.m. ET 4/8/15.

Docket Numbers: ER15-1338-000.

Applicants: Southern California Edison Company.

Description: § 205(d) rate filing per 35.13(a)(2)(iii): GIA and Distribution Service Agmt with Ridgetop Energy and Pacific Crest Power to be effective 3/25/2015.

Filed Date: 3/19/15.

Accession Number: 20150319-5004.

Comments Due: 5 p.m. ET 4/9/15.

Docket Numbers: ER15-1339-000.

Applicants: Virginia Electric and Power Company.

Description: Notice of Cancellation of Rate Schedule Nos. 111, 112, 113, and 115 of Application of Virginia Electric and Power Company.

Filed Date: 3/18/15.

Accession Number: 20150318-5185.

Comments Due: 5 p.m. ET 4/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2015.
Nathaniel J. Davis, Sr.,
Deputy Secretary.

[FR Doc. 2015-06827 Filed 3-24-15; 8:45 am]

BILLING CODE 6717-01-P